DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission.

DATE AND TIME: December 20, 2018, 10:00 a.m.

PLACE: Room 2C, 888 First Street NE, Washington, DC 20426.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed online at the Commission's website at http://ferc.capitolconnection.org/ using the eLibrary link, or may be examined in the Commission's Public Reference Room.

1050th Meeting—Open Meeting
[December 20, 2018, 10:00 a.m.]
Item No. | Docket No. | Company
ADMINISTRATIVE
A-1 | AD19-1-000 | Agency Administrative Matters.
A-2 | AD19-2-000 | Customer Matters, Reliability, Security and Market Operations.
ELECTRIC
E-1 | RM19-2-000 | Refinements to Horizontal Market Power Analysis for Sellers in Certain Regional Transmission Organization and Independent System Operator Markets.
E-2 | ER18-1952-001, ER18-1952-002, ER18-1952-003 | Gulf Power Company.
E-3 | EC18-117-000 | NextEra Energy, Inc.; 700 Universe, LLC.; Gulf Power Company.
E-4 | EL18-155-000 | Ameren Illinois Company.
| EL18-156-000 | Ameren Transmission Company of Illinois.
| EL18-161-000 | Northern States Power Company, a Minnesota corporation.
| EL18-162-000 | Northern States Power Company, a Wisconsin corporation.
| ER18-2322-000 | Midcontinent Independent System Operator, Inc.
E-5 | EL18-163-000 | Public Service Company of Colorado.
| EL18-166-000 | Southwestern Public Service Company.
| ER18-2319-000 | Public Service Company of Colorado.
E-6 | EL18-138-000 | Midcontinent Independent System Operator, Inc.; ALLETE, Inc.; Montana-Dakota Utilities Co.; Northern Indiana Public Service Company; Otter Tail Power Company; Southern Indiana Gas & Electric Company.
| ER18-1739-000 | Midcontinent Independent System Operator, Inc.
E-7 | EL18-159-000 | International Transmission Company.
| EL18-160-000 | ITC Midwest, LLC.
| ER18-2323-000 | Midcontinent Independent System Operator, Inc.
| EL19-16-000 | Michigan Electric Transmission Company, LLC.
E-8 | EL18-157-000 | American Transmission Company, LLC.
E-9 | EL18-165-000 | TransCanyon DCR, LLC.
E-10 | EL18-167-000 | Virginia Electric and Power Company.
E-11 | EL18-158-000 | GridLiance West Transco LLC.
E-12 | EL18-164-000 | Southern California Edison Company.
E-13 | ER19-166-000 | Southwest Power Pool, Inc.
E-14 | ER18-2340-001 | Midcontinent Independent System Operator, Inc.
E-15 | ER19-169-000 | ISO New England Inc. and New England Power Pool Participants Committee.
E-16 | ER18-1953-000, ER18-1953-001 | Gulf Power Company.
E-17 | ER17-2154-002 | Pacific Gas and Electric Company.
E-18 | ER17-802-002, EL19-24-000, ER17-802-001 (consolidated) | Exelon Generation Company, LLC.
E-19 | ER18-2377-000 | Southwestern Public Service Company.
E-20 | OMITTED
E-21 | EL18-188-000 | NRG Curtailment Solutions, Inc. v. New York Independent System Operator, Inc.
E-22 | EL18-194-000 | Nebraska Public Power District v. Tri-State Generation and Transmission Association, Inc. and Southwest Power Pool, Inc.
E-23 | EL18-197-000 | City of Oakland, California v. Pacific Gas and Electric Company.
E-24 | EL18-176-000 | City of Falmouth, Kentucky.
GAS
G-1 | RP19-238-000, RP19-238-001 | Southwest Gas Transmission Company, A Limited Partnership.
G-2 | RP19-240-000 | WestGas Interstate, Inc.
G-3 | RP19-266-000, RP19-267-000 | Southeast Supply Header, LLC.
G-4 | RP19-307-000 | Black Hills Utility Holdings, Inc.; Black Hills Service Company, LLC.
G-5 | RP17-811-003, RP17-811-004, RP18-271-001, RP18-271-002 (consolidated) | Peregrine Oil & Gas II, LLC v. Texas Eastern Transmission, LP.
HYDRO
H-1 | RM18-14-000 | Elimination of Form 80 and Revision of Regulations on Recreational Opportunities and Development at Licensed Hydropower Projects.
H-2 | DI18-1-001 | Covington Mountain Hydro, LLC.
H-3 | P-14329-005 | Columbia Basin Hydropower.
H-4 | P-2744-046 | North East Wisconsin Hydro, LLC.
CERTIFICATES
C-1 | CP18-532-000 | Puget Sound Energy, Inc.; SOCCO, Inc.; Sumas Pipeline Company; Sumas Dry Kilns, Inc.
C-2 | CP19-20-000 | Golden Pass LNG Terminal LLC and Golden Pass Products LLC.
C-3 | CP18-45-000 | Dominion Energy Transmission, Inc.
C-4 | CP15-550-000 | Venture Global Calcasieu Pass, LLC.
| CP15-551-000, CP15-551-001 | TransCameron Pipeline, LLC.

Issued: December 13, 2018.
Kimberly D. Bose,
Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2018-27487 Filed 12-14-18; 4:15 pm]

BILLING CODE 6717-01-P